DEPARTMENT OF ENERGY

Federal Energy Regulatory Commission

[Project No. 12514-000]

Northern Indiana Public Service Company; Notice Rescinding Tendering Notice

August 4, 2004.

On August 3, 2004, the Commission issued a “Notice of Application Tendered for Filing with the Commission and Soliciting Additional Study Requests and Establishing procedures for Relicensing and a Deadline for Submission of Final Amendments” in the above referenced project. This notice was issued in error and is hereby rescinded.

Magalie R. Salas,
Secretary.

[FR Doc. E4-1770 Filed 8-10-04; 8:45 am]

BILLING CODE 6717-01-P